DEPARTMENT OF ENERGY

Federal Energy Regulatory Commission

Combined Notice of Filings #1

Take notice that the Commission received the following exempt wholesale generator filings:

Docket Numbers: EG17-109-000.

Applicants: Rock Falls Wind Farm LLC.

Description: Notice of Self-Certification of Exempt Wholesale Generator Status of Rock Falls Wind Farm.

Filed Date: 5/23/17.

Accession Number: 20170523-5091.

Comments Due: 5 p.m. ET 6/13/17.

Take notice that the Commission received the following electric rate filings:

Docket Numbers: ER16-2577-002.

Applicants: Lindahl Wind Project, LLC.

Description: Compliance filing: Lindahl Wind Project, LLC Notice of Non-Material Change in Status to be effective 11/10/2016.

Filed Date: 5/23/17.

Accession Number: 20170523-5192.

Comments Due: 5 p.m. ET 6/13/17.

Docket Numbers: ER17-1042-001.

Applicants: Duke Energy Carolinas, LLC.

Description: Tariff Amendment: DEC-Central Response to Deficiency Letter to be effective 1/1/2016.

Filed Date: 5/24/17.

Accession Number: 20170524-5061.

Comments Due: 5 p.m. ET 6/14/17.

Docket Numbers: ER17-1360-001.

Applicants: Midcontinent Independent System Operator, Inc.

Description: Tariff Amendment: 2017-05-23_SA 2931 ATC-WPL Sub 1st Rev E&P (J390) to be effective 3/30/2017.

Filed Date: 5/23/17.

Accession Number: 20170523-5181.

Comments Due: 5 p.m. ET 6/13/17.

Docket Numbers: ER17-1664-000.

Applicants: Midcontinent Independent System Operator, Inc.

Description: § 205(d) Rate Filing: 2017-05-23_Filing to correct typographical error in ATC Depreciation Rates to be effective 6/1/2017.

Filed Date: 5/23/17.

Accession Number: 20170523-5129.

Comments Due: 5 p.m. ET 6/13/17.

Docket Numbers: ER17-1665-000.

Applicants: Constellation NewEnergy, Inc., Constellation Energy Services of New York.

Description: Tariff Cancellation: Cancellation of MBR Tariff to be effective 5/24/2017.

Filed Date: 5/23/17.

Accession Number: 20170523-5130.

Comments Due: 5 p.m. ET 6/13/17.

Docket Numbers: ER17-1666-000.

Applicants: Red Pine Wind Project, LLC.

Description: Baseline eTariff Filing: Red Pine Wind Project Initial Market-Based Rate Application Filing—Clone to be effective 7/23/2017.

Filed Date: 5/23/17.

Accession Number: 20170523-5145.

Comments Due: 5 p.m. ET 6/13/17.

Docket Numbers: ER17-1667-000.

Applicants: ITC Midwest LLC.

Description: § 205(d) Rate Filing: Cancellation of a Joint Use Agreement with Clarke Electric Cooperative to be effective 7/24/2017.

Filed Date: 5/23/17.

Accession Number: 20170523-5148.

Comments Due: 5 p.m. ET 6/13/17.

Docket Numbers: ER17-1668-000.

Applicants: ISO New England Inc., Central Maine Power Company.

Description: § 205(d) Rate Filing: First Revised LGIA-ISONE/CMP-13-03 and Original LGIA-ISONE/CMP-17-01 to be effective 3/27/2017.

Filed Date: 5/23/17.

Accession Number: 20170523-5161.

Comments Due: 5 p.m. ET 6/13/17.

Docket Numbers: ER17-1669-000.

Applicants: Cleco Power LLC.

Description: § 205(d) Rate Filing: Response to Deficiency Letter—New Rate Schedule 41 to be effective 4/1/2017.

Filed Date: 5/23/17.

Accession Number: 20170523-5168.

Comments Due: 5 p.m. ET 6/13/17.

Docket Numbers: ER17-1670-000.

Applicants: Solea Energy, LLC.

Description: Tariff Cancellation: Cancellation of MBR Tariff to be effective 5/24/2017.

Filed Date: 5/23/17.

Accession Number: 20170523-5180.

Comments Due: 5 p.m. ET 6/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2017.
Kimberly D. Bose,
Secretary.

[FR Doc. 2017-11192 Filed 5-30-17; 8:45 am]

BILLING CODE 6717-01-P